DEPARTMENT OF STATE

[Public Notice: 7215]

60-Day Notice of Proposed Information Collection: R/PPR Evaluation and Measurement Unit, Evaluation Survey Question Bank

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: R/PPR Evaluation and Measurement Unit Survey Question Bank.

• OMB Control Number: None.

• Type of Request: New Collection.

• Originating Office: Office of the Under Secretary for Public Diplomacy and Public Affairs' Office of Policy, Planning and Resources Evaluation and Measurement Unit (R/PPR EMU).

• Form Number: Survey numbers generated as needed.

• Respondents: Participants in Public Diplomacy (PD) programs, selected users of PD products and services, and others engaged in Department of State Public Diplomacy efforts.

• Estimated Number of Respondents: 40,000 annually.

• Estimated Number of Responses: 40,000 annually.

• Average Hours per Response: 30 minutes per response.

• Total Estimated Burden: 20,000 hours.

• Frequency: On occasion.

• Obligation to Respond: Voluntary.

DATES: The Department will accept comments from the public up to 60 days from October 26, 2010.

ADDRESSES: You may submit comments by any of the following methods:

• E-mail: DullesJF@state.gov.

• Mail (paper, disk, or CD-ROM submissions): Juliet Dulles, R/PPR EMU 2200 C Street, NW., SA-5 5th Floor, Washington, DC 20037.

You must include the DS form number (if applicable), information collection title, and OMB control number in any correspondence.

FOR FURTHER INFORMATION CONTACT: Direct requests for additional information regarding the collection listed in this notice, including requests for copies of the proposed information collection and supporting documents, to Juliet Dulles, R/PPR EMU 2200 C Street, NW., SA-5 5th Floor, Washington, DC 20037, who may be reached on 202-632-3344 or at DullesJF@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

This generic collection is for performance measurement, program evaluation, customer satisfaction and attitudinal evaluation surveys. Included in this collection are questions designed to measure and evaluate the performance of programs, products and services provided by the Bureau of International Information Programs (IIP), and the Office of the Under Secretary for Public Diplomacy and Public Affairs, Office of Policy, Planning and Resources (R/PPR). Survey respondents include participants in PD programs, selected users of PD products and services, and others engaged in Department of State efforts.

Methodology

95% of the data collection conducted by R/PPR EMU uses electronic collection methodologies except when the infrastructure of the foreign country does not permit electronic data collection, or when data are being collected through focus groups. Technology is used in nearly every survey in which safety, security, programmatic, cultural or political concerns are not of sufficient magnitude to pose a negative impact on the respondent. Survey instruments are distributed via web-based or e-mail technology in PDF format, allowing the respondent to complete the survey and return it anytime during the survey period.

Additional Information

None.

Dated: October 15, 2010.
Cherreka Montgomery,
Director, R/PPR EMU, Department of State.

[FR Doc. 2010-27070 Filed 10-25-10; 8:45 am]

BILLING CODE 4710-10-P